DEPARTMENT OF TRANSPORTATION

Federal Aviation Administration

14 CFR Part 39

[Docket No. FAA-2017-0499; Product Identifier 2016-NM-205-AD; Amendment 39-19090; AD 2017-22-10]

RIN 2120-AA64

Airworthiness Directives; The Boeing Company Airplanes

AGENCY: Federal Aviation Administration (FAA), DOT.

ACTION: Final rule.

SUMMARY: We are adopting a new airworthiness directive (AD) for certain The Boeing Company Model 747-400, 747-400F, and 747-8F series airplanes. This AD was prompted by reports of failure of the fastener assemblies on the crew access ladder handrails. This AD requires replacing the fastener assemblies. We are issuing this AD to address the unsafe condition on these products.

DATES: This AD is effective December 29, 2017.

The Director of the Federal Register approved the incorporation by reference of a certain publication listed in this AD as of December 29, 2017.

ADDRESSES: For service information identified in this final rule, contact Boeing Commercial Airplanes, Attention: Contractual & Data Services (C&DS), 2600 Westminster Blvd., MC 110-SK57, Seal Beach, CA 90740-5600; telephone 562-797-1717; Internet https://www.myboeingfleet.com. You may view this service information at the FAA, Transport Standards Branch, 1601 Lind Avenue SW., Renton, WA. For information on the availability of this material at the FAA, call 425-227-1221. It is also available on the Internet at http://www.regulations.gov by searching for and locating Docket No. FAA-2017-0499.

Examining the AD Docket

You may examine the AD docket on the Internet at http://www.regulations.gov by searching for and locating Docket No. FAA-2017-0499; or in person at the Docket Management Facility between 9 a.m. and 5 p.m., Monday through Friday, except Federal holidays. The AD docket contains this final rule, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Susan L. Monroe, Aerospace Engineer, Cabin Safety and Environmental Systems Section, FAA, Seattle ACO Branch, 1601 Lind Avenue SW., Renton, WA; phone: 425-917-6457; fax: 425-917-6590; email: susan.l.monroe@faa.gov.

SUPPLEMENTARY INFORMATION:

Discussion

We issued a notice of proposed rulemaking (NPRM) to amend 14 CFR part 39 by adding an AD that would apply to certain The Boeing Company Model 747-400, 747-400F, and 747-8F series airplanes. The NPRM published in the Federal Register on May 30, 2017 (82 FR 24595). The NPRM was prompted by reports of failure of the fastener assemblies on the crew access ladder handrails. The NPRM proposed to require replacing the fastener assemblies. We are issuing this AD to prevent the fastener assemblies from coming loose on the crew access ladder handrails, which could result in serious or fatal injury to personnel.

Comments

We gave the public the opportunity to participate in developing this final rule. The following presents the comments received on the NPRM and the FAA's response to each comment.

Request To Withdraw the NPRM

United Parcel Service (UPS) requested that the NPRM be withdrawn. UPS pointed out that the crew access ladder is stowed during flight and stated that failure of the ladder does not affect safety of flight of the airplane. Therefore, UPS stated that the failure of the crew access ladder should not be the subject of an AD as it is outside the scope of 14 CFR part 39.

We do not agree with UPS's request. Title 14 part 39.5 states: “FAA issues an airworthiness directive addressing a product when we find that: (a) An unsafe condition exists in the product; and (b) The condition is likely to exist or develop in other products of the same type design.” This action does fall within the scope of 14 CFR part 39 because an unsafe condition exists in a product that is likely to exist in other products of the same design. In addition, the ladder is accessible to, and in some cases may be used by, the flight crew during flight. Incapacitation of a flight crew member during flight is considered a safety of flight issue. We have not changed this AD in this regard.

Requests To Revise Applicability To Match the Service Information

Boeing requested that we remove the “Differences Between this Proposed AD and the Service Information” section of the NPRM. Boeing explained that this information implies that airplanes delivered with compliant rotable hardware could have the rotable hardware subsequently replaced with non-compliant hardware. Boeing stated that this is very unlikely because compliant airplanes have the compliant rotable hardware sealed within a permanent protective cover.

UPS requested that we revise the applicability to remove Model 747-8F series airplanes, line numbers (L/Ns) 1540 and on, specified in paragraphs (c)(2) and (c)(3) of the proposed AD. UPS asserted that Boeing has confirmed that those airplanes will have the compliant parts installed during production.

We partially agree with the commenters' requests. We do not agree to remove the “Differences Between this Proposed AD and the Service Information” section of the NPRM. This section is not restated in the final rule, so no change is necessary in this regard.

We agree that the likelihood of discrepant parts being installed on an airplane that is outside the applicability of Boeing Special Attention Service Bulletin 747-25-3693, dated November 10, 2016, is sufficiently low. Therefore, we have revised the applicability of this AD accordingly. We also removed paragraph (h) of the proposed AD from this AD and redesignated subsequent paragraphs accordingly.

Conclusion

We reviewed the relevant data, considered the comments received, and determined that air safety and the public interest require adopting this final rule with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this final rule.

Related Service Information Under 1 CFR Part 51

We reviewed Boeing Special Attention Service Bulletin 747-25-3693, dated November 10, 2016. The service information describes procedures for replacing the existing fastener assemblies with new assemblies on the crew access ladder handrails. This service information is reasonably available because the interested parties have access to it through their normal course of business or by the means identified in the ADDRESSES section.

Costs of Compliance

We estimate that this AD will affect 84 airplanes of U.S. registry. We estimate the following costs to comply with this AD:

Estimated Costs
Action | Labor cost | Parts cost | Cost per product | Cost on U.S. operators
Replacement | 3 work-hours × $85 per hour = $255 | $2,418 | $2,673 | $224,532

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-22-10 The Boeing Company: Amendment 39-19090; Docket No. FAA-2017-0499; Product Identifier 2016-NM-205-AD.

(a) Effective Date

This AD is effective December 29, 2017.

(b) Affected ADs

None.

(c) Applicability

This AD applies to The Boeing Company Model 747-400, 747-400F, and 747-8F series airplanes, certificated in any category, as identified in Boeing Special Attention Service Bulletin 747-25-3693, dated November 10, 2016.

(d) Subject

Air Transport Association (ATA) of America Code 25; Equipment/furnishings.

(e) Unsafe Condition

This AD was prompted by reports of failure of the fastener assemblies on the crew access ladder handrails. We are issuing this AD to prevent the fastener assemblies from coming loose on the crew access ladder handrails, which could result in serious or fatal injury to personnel.

(f) Compliance

Comply with this AD within the compliance times specified, unless already done.

(g) Replacement

Within 36 months after the effective date of this AD, replace the fastener assemblies in the crew access ladder handrails with new fastener assemblies, in accordance with the Accomplishment Instructions of Boeing Special Attention Service Bulletin 747-25-3693, dated November 10, 2016.

(h) Parts Installation Limitation

As of the effective date of this AD, no person may install the discrepant fastener hardware identified in the Accomplishment Instructions of Boeing Special Attention Service Bulletin 747-25-3693, dated November 10, 2016, on a crew access ladder on any airplane.

(i) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(4) For service information that contains steps that are labeled as Required for Compliance (RC), the provisions of paragraphs (i)(4)(i) and (i)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Susan L. Monroe, Aerospace Engineer, Cabin Safety and Environmental Systems Section, FAA, Seattle ACO Branch, 1601 Lind Avenue SW., Renton, WA; phone: 425-917-6457; fax: 425-917-6590; email: susan.l.monroe@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 747-25-3693, dated November 10, 2016.

(ii) Reserved.

(3) For service information identified in this AD, contact Boeing Commercial Airplanes, Attention: Contractual & Data Services (C&DS), 2600 Westminster Blvd., MC 110-SK57, Seal Beach, CA 90740-5600; telephone 562-797-1717; Internet https://www.myboeingfleet.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 19, 2017.
Jeffrey E. Duven,
Director, System Oversight Division, Aircraft Certification Service.

[FR Doc. 2017-23998 Filed 11-22-17; 8:45 am]

BILLING CODE 4910-13-P